DEPARTMENT OF ENERGY

Federal Energy Regulatory Commission

Combined Notice of Filings # 1

Take notice that the Commission received the following electric corporate filings:

Docket Numbers: EC24-8-000.

Applicants: Salt Creek Township Solar, LLC, BCD 2024 Fund 1 Lessee, LLC.

Description: Joint Application for Authorization Under Section 203 of the Federal Power Act of Salt Creek Township Solar, LLC.

Filed Date: 10/17/23.

Accession Number: 20231017-5175.

Comment Date: 5 p.m. ET 11/7/23.

Take notice that the Commission received the following exempt wholesale generator filings:

Docket Numbers: EG24-10-000.

Applicants: Sunlight Storage II, LLC.

Description: Sunlight Storage II, LLC submits Notice of Self-Certification of Exempt Wholesale Generator Status.

Filed Date: 10/17/23.

Accession Number: 20231017-5173.

Comment Date: 5 p.m. ET 11/7/23.

Docket Numbers: EG24-11-000.

Applicants: Willowbrook Solar I, LLC.

Description: Willowbrook Solar I, LLC submits Notice of Self-Certification of Exempt Wholesale Generator Status.

Filed Date: 10/18/23.

Accession Number: 20231018-5081.

Comment Date: 5 p.m. ET 11/8/23.

Docket Numbers: EG24-12-000.

Applicants: Cedar Creek Wind, LLC.

Description: Cedar Creek Wind, LLC submits Notice of Self-Certification of Exempt Wholesale Generator Status.

Filed Date: 10/18/23.

Accession Number: 20231018-5083.

Comment Date: 5 p.m. ET 11/8/23.

Take notice that the Commission received the following electric rate filings:

Docket Numbers: ER14-126-003.

Applicants: Yellow Jacket Energy, LLC.

Description: Notice of Non-Material Change in Status of Yellow Jacket Energy, LLC.

Filed Date: 10/13/23.

Accession Number: 20231013-5211.

Comment Date: 5 p.m. ET 11/3/23.

Docket Numbers: ER24-129-000.

Applicants: Arizona Public Service Company.

Description: 205(d) Rate Filing: Rate Schedule No. 217, Exhibit B Revisions to be effective 12/17/2023.

Filed Date: 10/17/23.

Accession Number: 20231017-5161.

Comment Date: 5 p.m. ET 11/7/23.

Docket Numbers: ER24-130-000.

Applicants: Midcontinent Independent System Operator, Inc., Michigan Electric Transmission Company, LLC.

Description: 205(d) Rate Filing: Midcontinent Independent System Operator, Inc. submits tariff filing per 35.13(a)(2)(iii: 2023-10-18_SA 4175 METC-DTE Electric E&P (J1916) to be effective 12/18/2023.

Filed Date: 10/18/23.

Accession Number: 20231018-5005.

Comment Date: 5 p.m. ET 11/8/23.

Docket Numbers: ER24-131-000.

Applicants: Midcontinent Independent System Operator, Inc., Michigan Electric Transmission Company, LLC.

Description: 205(d) Rate Filing: Midcontinent Independent System Operator, Inc. submits tariff filing per 35.13(a)(2)(iii: 2023-10-18_SA 4176 METC-DTE Electric E&P (J1918) to be effective 12/18/2023.

Filed Date: 10/18/23.

Accession Number: 20231018-5010.

Comment Date: 5 p.m. ET 11/8/23.

Docket Numbers: ER24-132-000.

Applicants: PJM Interconnection, L.L.C.

Description: 205(d) Rate Filing: Original NSA, Service Agreement No. 7122; Queue No. AF1-217 to be effective 12/18/2023.

Filed Date: 10/18/23.

Accession Number: 20231018-5023.

Comment Date: 5 p.m. ET 11/8/23.

Docket Numbers: ER24-133-000.

Applicants: Metropolitan Edison Company, PJM Interconnection, L.L.C.

Description: 205(d) Rate Filing: Metropolitan Edison Company submits tariff filing per 35.13(a)(2)(iii: Met-Ed Amends 10 SAs (4580 4593 6285 6286 6293 6333 6337 6495 6496 6634) to be effective 12/31/9998.

Filed Date: 10/18/23.

Accession Number: 20231018-5038.

Comment Date: 5 p.m. ET 11/8/23.

Docket Numbers: ER24-134-000.

Applicants: Three Rivers District Energy, LLC.

Description: Baseline eTariff Filing: Baseline new to be effective 12/18/2023.

Filed Date: 10/18/23.

Accession Number: 20231018-5040.

Comment Date: 5 p.m. ET 11/8/23.

Docket Numbers: ER24-135-000.

Applicants: AEP Texas Inc.

Description: 205(d) Rate Filing: AEPTX-STEC (Loxley) Facilities Development Agreement to be effective 9/28/2023.

Filed Date: 10/18/23.

Accession Number: 20231018-5041.

Comment Date: 5 p.m. ET 11/8/23.

Docket Numbers: ER24-136-000.

Applicants: Sunlight Storage II, LLC.

Description: Baseline eTariff Filing: Sunlight Storage II, LLC Application for Market-Based Rate Authorization to be effective 12/18/2023.

Filed Date: 10/18/23.

Accession Number: 20231018-5053.

Comment Date: 5 p.m. ET 11/8/23.

Docket Numbers: ER24-137-000.

Applicants: Midcontinent Independent System Operator, Inc., Union Electric Company.

Description: 205(d) Rate Filing: Midcontinent Independent System Operator, Inc. submits tariff filing per 35.13(a)(2)(iii: 2023-10-18_SA 4177 Union Electric-WVPA TIA to be effective 10/15/2023.

Filed Date: 10/18/23.

Accession Number: 20231018-5054.

Comment Date: 5 p.m. ET 11/8/23.

Docket Numbers: ER24-138-000.

Applicants: ISO New England Inc., New England Power Pool Participants Committee.

Description: Compliance filing: ISO New England Inc. submits tariff filing per 35: ISO-NE; Revisions to Credit-Related Information Sharing to be effective 10/21/2023.

Filed Date: 10/18/23.

Accession Number: 20231018-5067.

Comment Date: 5 p.m. ET 11/8/23.

Docket Numbers: ER24-139-000.

Applicants: Cedar Creek Wind, LLC.

Description: Baseline eTariff Filing: Market-Based Rate Application to be effective 12/18/2023.

Filed Date: 10/18/23.

Accession Number: 20231018-5071.

Comment Date: 5 p.m. ET 11/8/23.

Docket Numbers: ER24-140-000.

Applicants: American Transmission Systems, Incorporated, PJM Interconnection, L.L.C.

Description: 205(d) Rate Filing: American Transmission Systems, Incorporated submits tariff filing per 35.13(a)(2)(iii: ATSI Submits One Construction Service Agreement No. 6645 to be effective 12/18/2023.

Filed Date: 10/18/23.

Accession Number: 20231018-5077.

Comment Date: 5 p.m. ET 11/8/23.

Docket Numbers: ER24-141-000.

Applicants: Duke Energy Carolinas, LLC.

Description: 205(d) Rate Filing: NCMPA1 RS No. 318 Amendment (2024 Confirmation) to be effective 1/1/2024.

Filed Date: 10/18/23.

Accession Number: 20231018-5096.

Comment Date: 5 p.m. ET 11/8/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 18, 2023.
Debbie-Anne A. Reese,
Deputy Secretary.

[FR Doc. 2023-23461 Filed 10-23-23; 8:45 am]

BILLING CODE 6717-01-P